DEPARTMENT OF ENERGY

Federal Energy Regulatory Commission

18 CFR Parts 4, 16, 141, 157

[Docket No. RM03-6-000]

Amendments to Conform Regulations with Order No. 630 (Critical Energy Infrastructure Information Final Rule)

April 9, 2003.

Correction

Proposed Rule document 03-9267 was inadvertently published in the Rules and Regulations section of the issue of Wednesday, April 16, 2003 beginning on page 18538. It should have appeared in the Proposed Rules section.

[FR Doc. C3-9267 Filed 4-18-03; 8:45 am]

BILLING CODE 1505-01-D

INTER-AMERICAN FOUNDATION

Sunshine Act Meeting; Inter-American Foundation Meeting of the Board of Directors and Advisory Council

Correction

In notice document 03-8246 appearing on page 16304 in the issue of Thursday, April 3, 2003, make the following correction:

On page 16304, in the first column, under the heading TIME AND DATE:, in the first line, “April 24, 2003” should read “ April 25, 2003”.

[FR Doc. C3-8246 Filed 4-18-03; 8:45 am]

BILLING CODE 1505-01-D